FEDERAL COMMUNICATIONS COMMISSION

Public Information Collections Approved by Office of Management and Budget

October 22, 2002.

The Federal Communications Commission (FCC) has received Office of Management and Budget (OMB) approval for the following public information collections pursuant to the Paperwork Reduction Act of 1995, Pub. L. 104-13. An agency may not conduct or sponsor and a person is not required to respond to a collection of information unless it displays a currently valid control number. For further information contact Paul J. Laurenzano, Federal Communications Commission, (202) 418-1359 or via the Internet at plaurenz@fcc.gov.

OMB Control No.: 3060-0989.

Expiration Date: 11/30/2002.

Title: Procedures for Applicants Requiring Section 214 Authorization for Domestic Interstate Transmission Lines Acquired Through Corporate Control, 47 CFR Sections 63.01, 63.03, and 63.04.

Form No.: N/A.

Estimated Annual Burden: 35 responses; 1,655 total annual hours; 3-65 hours per respondent.

Needs and Uses: The Implementation of Further Streamlining Measures for Domestic Section 214 Authorizations Report and Order released March 21, 2002, provides presumptive streamlining categories, allows for joint applications for international and domestic transfers of control, clarifies confusion about content of applications, provides timelines for streamlined transaction review, provides a pro forma transaction process, allows asset acquisitions to be treated as transfers of control and deletes obsolete sections of the Commission's rules. The information will be used to ensure that applicants comply with the requirements of 47 U.S.C. section 214.

OMB Control No.: 3060-0793.

Expiration Date: 10/31/2005.

Title: Federal-State Joint Board on Universal Service, CC Docket No. 96-45, Procedures for Self-Certifying as a Rural Carrier.

Form No.: N/A.

Estimated Annual Burden: 10 responses; 10 total annual hours; 1 hour per response.

Needs and Uses: In the Universal Service Order, the Commission determined that rural and non-rural carriers will receive federal universal service support determined by separate mechanisms, at least until January 1, 2001. The Commission stated that it would define rural carriers as those carriers that meet the statutory definition of a rural telephone company in section 153(37) of the Communications Act. In addition, the Commission determined that local exchange carriers (LECs) should self-certify their status as a rural company each year to the Commission and their state commission.

In a Tenth Report and Order (Report and Order) issued on November 2, 1999, the Commission adopted the proposals made that carriers who serve under 100,000 access lines should not have to file the annual rural certification letter unless their status has changed since their last filing. Carriers with more than 100,000 access lines, that seek rural status, need to file rural certifications for their year 2001 status and thereafter, should re-certify only if their status has changed. The Commission found that the relaxed re-certification requirements will reduce administrative burdens for carriers seeking rural certification and for the Commission. Statutory authority for this information collection is section 254 of the Telecommunications Act.

OMB Control No.: 3060-0742.

Expiration Date: 08/31/2005.

Title: Telephone Number Portability (47 CFR part 52, subpart C, Sections 52.21-52.33) and CC docket no. 95-116.

Form No.: N/A.

Estimated Annual Burden: 1,925 responses; 13,613 total annual hours; $77,000 cost burden; .50—149 hours per response.

Needs and Uses: 47 CFR part 52, subpart C implements the statutory requirement that LECs provide number probability. In a MO&O on reconsideration, issued in CC docket no. 95-116, the Commission implements new and/or modified requirements. (1) In order to calculate a multi-region carrier's share of LNP administration costs, the agency needs a certification if that carrier cannot divide its revenue by LNP region and instead chooses to allocate such revenue by subscriber percentages. (2) To ensure that a non-LNP capable incumbent local exchange carrier participating in an extended area service calling plan with an LNP-capable carrier complies with LNP cost recovery law and rules, the agency needs the collection by tariff if such a carrier seeks to recover its query and LNP administration costs.

OMB Control No.: 3060-0540.

Expiration Date: 09/30/2005.

Title: Tariff Filing Requirements for Nondominant Common Carriers.

Form No.: N/A.

Estimated Annual Burden: 2,000 responses; 21,000 total annual burden; $1,260,000 cost burden; 10.5 hours per response.

Needs and Uses: Nondominant carriers must file tariffs pursuant to the requirements contained in 47 CFR sections 61.20-61.23. These tariff filing rules for nondominant carriers were originally adopted to comply with the decision of the United States Court of Appeals for the District of Columbia Circuit, which required all nondominant carriers to file tariffs with the Commission. See AT&T v. FCC, 978 F.2d 727 (D.C. Cir. 1992). See also Southwestern Bell Corp. v. FCC, 43 F.3d 1515 (D.C. Cir. 1995).

The information collected pursuant to the nondominant tariff filing rules is used to comply with section 203 of the Communications Act of 1934, which requires that carriers file schedules indicating the rates, terms, and conditions of their service offerings. The information collected pursuant to the tariff filing requirements is used by the Commission to determine whether the rates, terms, and conditions of service offered are just and reasonable as the Act requires. These tariff filing requirements enable the Commission and the public to ensure that the service offerings of communications common carriers comply with the requirements of the Act. If the information were not filed, the Commission would not be able to carry out its responsibilities as required by the Act.

OMB Control No.: 3060-0463.

Expiration Date: 09/30/2005.

Title: Telecommunications Services for Individuals with Hearing and Speech Disabilities and the Americans with Disabilities Act of 1990, 47 CFR Part 64 (Sections 64.601-64.605).

Form No.: N/A.

Estimated Annual Burden: 5,052 responses; 26,831 total annual hours; 6 hours per response.

Needs and Uses: The Americans with Disabilities Act of 1990 (ADA), Pub. L. 101-336, 104 Stat. 327, 366-69, was enacted on July 26, 1990. The purpose of the ADA is to provide a clear and comprehensive national mandate to end discrimination against individuals with disabilities and to bring persons with disabilities into the economic and social mainstream of American life; to provide enforceable standards addressing discrimination against individuals with disabilities; and to ensure that the Federal government play a central role in enforcing these standards on behalf of individuals with disabilities. Title IV of the ADA adds section 225 to the Communications Act of 1934. Section 225 requires the Commission to promulgate regulations that require all domestic telephone common carriers to provide telecommunications relay services (TRS). 47 CFR part 64, subpart F implements certain provisions of the ADA. It contains the operational, technical, and functional standards required of all TRS providers and the procedures for state certification. Although section 225 of the ADA imposes on all common carriers providing interstate or intrastate telephone services an obligation to provide to hearing and speech-impaired individuals telecommunications services that enable them to communicate with hearing individuals, and charges the Commission with regulatory oversight, states may seek to establish intrastate relay services that satisfy federal requirements. Pursuant to section 64.602, any violation of subpart F by any common carrier engaged in intrastate communications will be subject to the same remedies, penalties, and procedures as are applicable to a violation of the Communications Act by a common carrier engaged in interstate communications.

OMB Control No.: 3060-0169.

Expiration Date: 06/30/2005.

Title: Sections 43.51 and 43.53—Reports and Records of Communications Common Carriers and Affiliates.

Form No.: N/A.

Estimated Annual Burden: 374 responses; 6,029 total annual hours; 83-101 hours per response.

Needs and Uses: Sections 211 and 215 of the Communications Act of 1934, as amended, 47 U.S.C. sections 211 and 215 require that the FCC examine transactions of any common carriers relating to the activities of that carrier which may affect the charges and/or services rendered under the Act. The reports required by sections 43.51 and 43.53 are the means by which the FCC gathers information concerning the activities of carriers which it examines. See 43.51 also requires carriers to maintain copies of certain contracts, to have them readily accessible to Commission staff and members of the public upon request and to forward individual contracts to the Commission as requested.

OMB Control No.: 3060-0687.

Expiration Date: 10/30/2005.

Title: Access to Telecommunications Equipment and Services by Persons with Disabilities, CC Docket No. 87-124.

Form No.: N/A.

Estimated Annual Burden: 1,268 responses; 25,000 total annual hours; $272,000 cost burden; 9.86 hours per response.

Needs and Uses: Title II of the Communications Act of 1934, as amended, 47 U.S.C. section 201 et. al., provides the statutory authority for the Commission to promulgate the rules and regulations contained in part 68 of FCC Rules, 47 CFR part 68. Requirements in part 68 are necessary to prevent degradation of the telephone network. The following collections are necessary to inform consumers who purchase and/or use telephone equipment to determine whether the telephone is hearing aid compatible.

Pursuant to section 68.300(b), all registered telephone manufactured in the U.S. or imported for use in the U.S. that are hearing aid compatible must be stamped with the letters HAC. The provision applies to all telephones manufactured or imported as of March 1, 1997 for use in the United States. The provision excludes telephones used with public mobile services or private radio services, and secure telephones.

Section 68.112(b)(3) requires that employers with fifteen or more employees provide emergency telephones for use by employees with hearing disabilities, and that the employers “designate” such telephones for emergency use. The “designation” might be a sign or a written notice to employees, or some other means of designation. The type of designation is left up to the employer.

Section 68.224(a) requires a notice to be contained on the surface of the packaging of a non-hearing aid compatible telephone that the telephone contained therein is not hearing aid compatible, as defined in sections 68.4(a)(3) and 68.316, or if offered for sale without a surrounding package, shall be fixed with a written statement that the telephone is not hearing aid-compatible, as defined by sections 68.4(a)(3) and 68.316. Section 68.224(b) also requires that the telephone equipment be accompanied by instructions in accordance with § 68.218(b)(5) of the rules.

Federal Communications Commission.
Marlene H. Dortch,
Secretary.

[FR Doc. 02-27568 Filed 10-29-02; 8:45 am]

BILLING CODE 6712-01-P